Department of Justice

Notice of Lodging of Consent Decree; Pursuant to the Comprehensive, Environmental Response, Compensation and Liability Act (“CERCLA”)

Pursuant to 28 CFR 50.7, notice is hereby given that on September 13, 2005, a Consent Decree in the case of United States of America v. Raymond and Donnis Holbrook Trust, Civil Action No. CV05-6723 (GHK)(VBKx) was lodged in the United States District Court for the Central District of California.

In this action, under Sections 106 and 107 of CERCLA, 42 U.S.C. 9606 and 9607, the United States sought injunctive relief and recovery of response costs to remedy conditions in connection with the release or threatened release of hazardous substances into the environment at the Waste Disposal, Inc. Superfund Site in Santa Fe Springs, California (hereinafter referred to as the “WDI Site”).

The defendant in this action owns a portion of the WDI Site, and the purpose of the settlement is to provide to the United States the access and institutional controls which are required to perform the remedial action at the Site. In return, the United States has given the defendant covenants not to sue and contribution protection.

The Department of Justice will receive, for a period of thirty (30) days from the date of this publication, comments relating to the proposed Consent Decree. Comments should be addressed to the Assistant Attorney General, Environment and Natural Resources Division, U.S. Department of Justice, P.O. Box 7611, Washington, DC 20044-7611; and refer to United States of America v. Raymond and Donnis Holbrook Trust, DOJ #90-11-2-1000/2. The proposed settlement agreement may be examined at the United States Environmental Protection Agency, EPA Region IX, 75 Hawthrone Street, San Francisco, CA 94107, ATTN: Sarah Mueller. During the comment period, the Consent Decree, may also be examined on the following Department of Justice Web site, http://www.usdoj.gov/enrd/open.html.

A copy of the proposed Consent Decree may also be obtained by mail from the Consent Decree Library, PO Box 7611, U.S. Department of Justice, Washington, DC 20044-7611 or by faxing or e-mailing a request to Tonia Fleetwood (tonia.fleetwood@usdoj.gov, fax no. (202) 514-0097, phone confirmation number (202) 514-1547. In requesting a copy of the Decree from the Consent Decree Library, please enclose a check in the amount of $56.00 (25 cents per page reproduction cost for 224 pages) payable to the U.S. Treasury.

Ellen M. Mahan,
Assistant Section Chief, Environmental Enforcement Section.

[FR Doc. 05-20534 Filed 10-12-05; 8:45 am]

BILLING CODE 4410-15-M